DEPARTMENT OF COMMERCE

International Trade Administration

[A-570-970]

Multilayered Wood Flooring From the People's Republic of China: Rescission of Antidumping Duty New Shipper Review; 2013-2014

AGENCY: Enforcement and Compliance, International Trade Administration, Department of Commerce.

SUMMARY: The Department of Commerce (“Department”) published its Preliminary Rescission for the new shipper review (“NSR”) of the antidumping duty order on multilayered wood flooring from the People's Republic of China (“PRC”) on June 2, 2016.¹ The period of review (“POR”) is December 1, 2013 through November 30, 2014. As discussed below, we preliminarily found that the sale made by Qingdao Barry Flooring Co., Ltd. (“Qingdao Barry”) is not bona fide, and announced our preliminary intent to rescind its NSR. For the final results of this review, we continue to find Qingdao Barry's sale to be non-bona fide. Therefore, we are rescinding this NSR.

¹ See Multilayered Wood Flooring From the People's Republic of China: Preliminary Rescission of 2013-2014 Antidumping Duty New Shipper Review, 81 FR 35306 (June 2, 2016) (“Preliminary Rescission”); see also Memorandum from Maisha Cryor, Office IV AD/CVD Operations, to Abdelali Elouaradia, Director, Enforcement and Compliance, Office IV entitled “Antidumping Duty New Shipper Review of Multilayered Wood Flooring from the People's Republic of China: Preliminary Bona Fide Sale Analysis for Qingdao Barry Flooring Co., Ltd.,” dated May 24, 2016 (“Prelim Bona Fide Memo”).

DATES: Effective Date: July 19, 2016.

FOR FURTHER INFORMATION CONTACT: Maisha Cryor, AD/CVD Operations, Office IV, Enforcement and Compliance, International Trade Administration, Department of Commerce, 1401 Constitution Avenue NW., Washington, DC 20230; telephone: (202) 482-5831.

SUPPLEMENTARY INFORMATION:

Background

For a complete description of the events that followed the publication of the Preliminary Rescission, see the Issues and Decision Memorandum.² The Issues and Decision Memorandum is a public document and is on file electronically via Enforcement and Compliance's AD and Countervailing Duty (“CVD”) Centralized Electronic Service System (“ACCESS”). ACCESS is available to registered users at http://access.trade.gov and in the Central Records Unit, Room B8024 of the main Department of Commerce building. In addition, a complete version of the Issues and Decision Memorandum can be accessed directly at http://enforcement.trade.gov/frn/index.html. The signed Issues and Decision Memorandum and the electronic version of the Issues and Decision Memorandum are identical in content.

² See Memorandum from Christian Marsh, Deputy Assistant Secretary, Antidumping and Countervailing Operations, to Ronald K. Lorentzen, Acting Assistant Secretary for Enforcement and Compliance, entitled “Multilayered Wood Flooring From the People's Republic of China: Issues and Decision Memorandum for the Final Rescission of the 2013-2014 New Shipper Review” issued concurrently with and hereby adopted by this notice (“Issues and Decision Memorandum”).

Scope of the Order

The merchandise covered by the order is multilayered wood flooring, which is composed of an assembly of two or more layers or plies of wood veneers ³ in combination with a core.⁴ Merchandise covered by this review is classifiable under subheadings 4412.31.0520; 4412.31.0540; 4412.31.0560; 4412.31.2510; 4412.31.2520; 4412.31.4040; 4412.31.4050; 4412.31.4060; 4412.31.4070; 4412.31.4075; 4412.31.4080; 4412.31.5125; 4412.31.5135; 4412.31.5155; 4412.31.5165; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500 of the Harmonized Tariff Schedule of the United States (“HTSUS”). Although the HTSUS subheadings are provided for convenience and customs purposes, our written description of the scope of the order is dispositive.

³ A “veneer” is a thin slice of wood, rotary cut, sliced or sawed from a log, bolt or flitch. Veneer is referred to as a ply when assembled.

⁴ For a complete description of the scope of the order, see the Issues and Decision Memorandum.

Analysis of Comments Received

All issues raised in the case briefs by parties are addressed in the Issues and Decision Memorandum.⁵ A list of the issues which parties raised is attached to this notice as an Appendix.

⁵ Id.

Bona Fide Analysis

For the Preliminary Rescission, the Department analyzed the bona fides of Qingdao Barry's single sale and preliminarily found it was not a bona fide sale.⁶ Based on the Department's complete analysis of all of the information and comments on the record of this review, the Department continues to find Qingdao Barry's sale is not a bona fide sale, and it thus not reviewable pursuant to section 751(a)(2)(B)(iv) of the Tariff Act of 1930, as amended (“the Act”). The Department reached this conclusion based on its consideration of the totality of circumstances, including: (a) The atypical nature of the sale price; (b) Qingdao Barry's failure to demonstrate that its first unaffiliated customer resold the merchandise at a profit; (c) the nature of the relationship between Qingdao Barry and its U.S. customer; and (d) unusual circumstances concerning payment.⁷ For a complete discussion, see the Prelim Bona Fide Memo and the Issues and Decision Memorandum.

⁶ See Prelim Bona Fide Memo.

⁷ See Issues and Decision Memorandum.

Rescission of New Shipper Review

For the foregoing reasons, the Department continues to find that Qingdao Barry's sale is not a bona fide sale and that this sale does not provide a reasonable or reliable basis for calculating a dumping margin. Because this sale was Qingdao Barry's only sale of subject merchandise during the POR, the Department is rescinding this NSR.

Assessment

As the Department is rescinding this NSR, we have not calculated a company-specific dumping margin for Qingdao Barry. Qingdao Barry remains part of the PRC-wide entity and, accordingly, its entry will be assessed at the PRC-wide rate.

Cash Deposit Requirements

Effective upon publication of this notice of final rescission of the NSR of Qingdao Barry, the Department will instruct U.S. Customs and Border Protection to discontinue the option of posting a bond or security in lieu of a cash deposit for entries of subject merchandise from Qingdao Barry. Because we did not calculate a dumping margin for Qingdao Barry or otherwise find that Qingdao Barry is eligible for a separate rate in this review, Qingdao Barry continues to be part of the PRC-wide entity. The cash deposit rate for the PRC-wide entity is 25.62 percent. These cash deposit requirements shall remain in effect until further notice.

Administrative Protective Order

This notice also serves as a reminder to parties subject to Administrative Protective Order (“APO”) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a violation which is subject to sanction.

We are issuing and publishing this notice in accordance with sections 751(a)(2)(B) and 777(i) of the Tariff Act of 1930, as amended, and 19 CFR 351.214.

Dated: July 12, 2016.
Ronald K. Lorentzen,
Acting Assistant Secretary for Enforcement and Compliance.

Appendix—Issues and Decision Memorandum

Summary

Background

Scope of the Order

Discussion of the Issues

Comment 1: Whether the Department Used The Correct Time Period for Data Comparison Purposes

Comment 2: Whether the Department Properly Evaluated the Price Differential

Comment 3: Whether the Department Properly Considered Whether the Sale was Resold at a Profit and the Arms-Length Nature of the Sale

Comment 4: Whether the Department Properly Analyzed Other Factors in Its Bona Fide Analysis

Recommendation

[FR Doc. 2016-17050 Filed 7-18-16; 8:45 am]

BILLING CODE 3510-DS-P